DEPARTMENT OF HEALTH AND HUMAN SERVICES

Centers for Medicare & Medicaid Services

[Document Identifier: Document Identifiers: CMS-10453 and CMS-10592]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), Federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by January 8, 2024.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William Parham at (410) 786-4669.

SUPPLEMENTARY INFORMATION: Under the Paperwork Reduction Act of 1995 (PRA) (44 U.S.C. 3501-3520), Federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Reinstatement with change of the previously approved collection; Title of Information Collection: Medicare Advantage and Prescription Drug Programs: Part C and Part D Explanation of Benefits; Use: Sections 1852(k)(2)(C)(i) and 1860D-(4)(a)(4) of the Act give CMS authority to require EOBs in MA and Part D, respectively. Corresponding MA and Part D regulations at 42 CFR 422.111(k) and 423.128(e) further specify the requirements to provide a written EOB directly to enrollees following their use of benefits.

These requirements and the CMS model documents help ensure that MA and Part D enrollees receive consistent and timely information about costs associated with their medical claims. Part C and Part D EOBs allow enrollees to track their out-of-pocket expenses and benefit utilization in relation to their plan's deductible and out-of-pocket threshold. This customized information positions enrollees to make informed decisions about their healthcare options. It also enables them to make a more practical use of the information found in plans' Annual Notice of Change and Evidence of Coverage documents, as well as information available through tools such as the Medicare Plan Finder.

MAOs and Part D sponsors use the model documents attached to this information collection to set up the EOB templates in their systems and ensure that EOBs conform with the requirements at 42 CFR 422.111(k) and 423.128(e). MAOs and Part D sponsors populate EOBs to reflect individual enrollee benefits under the plan. CMS issues model EOBs annually through the Health Plan Management System (HPMS). Form Number: CMS-10453 (OMB control number: 0938-1228); Frequency: Monthly; Affected Public: Private Sector, Business or other for-profits and Not-for-profit institutions; Number of Respondents: 1,065; Total Annual Responses: 1,065; Total Annual Hours: 10,650. (For policy questions regarding this collection contact Valerie Yingling at 667-290-8657.)

2. Type of Information Collection Request: Extension of a currently collection; Title of Information Collection: Establishment of Exchanges and Qualified Health Plans; Exchange Standards for Employers; Use: Section 1321(a) requires HHS to issue regulations setting standards for meeting the requirements under title I of the Affordable Care Act including the offering of Qualified Health Plans (QHPs) through the Exchanges. On March 27, 2012, HHS published the rule CMS-9989-F: Establishment of Exchanges and Qualified Health Plans; Exchange Standards for Employers. The Exchange rule contains provisions that mandate reporting and data collections necessary to ensure that health insurance issuers are meeting the requirements of the Affordable Care Act. These information collection requirements are set forth in 45 CFR part 156. The reporting requirements and data collection in the Exchange rule address minimum requirements that health insurance issuers must meet in order to comply with provisions in the Affordable Care Act with respect to participation in a State-based or the federally-facilitated Exchange (FFE).

Information collected by the Exchanges or Medicaid and CHIP agencies will be used to determine eligibility for coverage through the Exchange and insurance affordability programs (i.e., Medicaid, CHIP, and advance payment of the premium tax credits); evaluate how CMS can best communicate eligibility and enrollment updates to issuers; and assist consumers in enrolling in a QHP if eligible. Applicants include anyone who may be eligible for coverage through any of these programs. Form Number: CMS-10592 (OMB control number: 0938-1341); Frequency: Annually; Affected Public: Private Sector: Business or other for-profits; Number of Respondents: 302; Number of Responses: 302; Total Annual Hours: 148,584. (For policy questions regarding this collection, contact Anne Pesto at 410-786-3492.)

Dated: December 5, 2023.
William N. Parham, III,
Director, Paperwork Reduction Staff, Office of Strategic Operations and Regulatory Affairs.

[FR Doc. 2023-27033 Filed 12-7-23; 8:45 am]

BILLING CODE 4120-01-P